DEPARTMENT OF DEFENSE

Office of the Secretary

[Docket ID: DoD-2015-OS-0004]

Proposed Collection; Comment Request

AGENCY: Office of the Assistant Secretary of Defense for Personnel and Readiness, DoD.

ACTION: Notice.

SUMMARY: In compliance with the Paperwork Reduction Act of 1995, the Office of the Assistant Secretary of Defense for Personnel and Readiness announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 27, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Deputy Assistant Secretary of Defense, Military Community and Family Policy, ATTN: Casualty Affairs, 4000 Defense Pentagon, Washington, DC 20301-4000.

SUPPLEMENTARY INFORMATION: Title; Associated Form; and OMB Number: Statement of Disposition of Military Remains, DD Form X634; Disposition of Remains Election Statement Initial Notification of Identified Partial Remains, DD Form X635; Disposition of Remains Election Statement Notification of Subsequently Identified Partial Remains, DD Form X3636; Disposition of Organs Retained for Extended Examination, DD Form X637; Advanced Restorative Art of Remains, DD Form X638; Election for Air Transportation of Remains of Casualties Dying in a Theater of Combat Operations, DD Form X639; OMB Control Number 0704-XXXX.

Needs and Uses: The information collection requirement is necessary to obtain the election (as applicable) of the Person Authorized to Direct Disposition (PADD) of the remains of the decedent. These forms were directed by the Secretary of Defense for transparency and standardization of the mortuary procedures as part of the Final Report of the Dover Port Mortuary Independent Review Subcommittee Implementation Plan and 180-day study. The applicable form(s) is included in the individual case file of the decedent.

Affected Public: Business or other for profit; Person Authorized to Direct Disposition (PADD); family members of the deceased.

Annual Burden Hours: 15.

Number of Respondents: 60.

Responses per Respondent: 1.

Average Burden per Response: 15 minutes.

Frequency: On occasion.

The respondents are the PADD of the decedent for whom mortuary services as described on the applicable form (DD Form X634; DD Form X635; DD Form X636; DD Form X637; DD Form X638; or DD Form X639) is recommended or required, and the witness to that election. The PADD documents their election, and the PADD and witness sign the applicable form to formalize this process and document the election of the PADD. These forms become a part of the Official Individual Deceased Personnel File. If the PADD does not sign these forms, then the Department cannot provide mortuary and transportation services to the PADD. Currently there is a lack of standardization across the Military Services, as each Service currently utilizes different forms for these elections and they do not all capture the same information even on similar forms. Standardizing the information collected is essential in maintaining the transparency and integrity of the mortuary affairs process.

Dated: January 21, 2015.
Aaron Siegel,
Alternate OSD Federal Register Liaison Officer, Department of Defense.

[FR Doc. 2015-01265 Filed 1-23-15; 8:45 am]

BILLING CODE 5001-06-P